DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period November 29, 2004-December 17, 2004
Firm name | Address | Date petition accepted | Product
Artstones, Inc. d.b.a. Heavenly Delights | 14358 Highway 43 South, Greensburg, LA 70441 | 12/3/2004 | Home décor.
Assem-Tech, Inc | 1600 Kooiman Avenue, Grand Haven, MI 49417 | 12/7/2004 | Electrical assemblies, i.e., printed circuit assemblies, telephone and telegraph connecting articles and printed circuit.
Aurident, Inc | P.O. Box 7200, Fullerton, CA 92830 | 12/7/2004 | Ingots of gold and ceramic alloys for denture production.
Bierson Corporation | 386 Bateman Drive, Central Point, OR 97502 | 12/7/2004 | Television cabinet parts.
Fletcher Rugs, Inc | 701 Oriole Drive, Hendersonville, NC 28792 | 12/7/2004 | Textile floor covering.
Kantronics Co., Inc | 1202 East 23rd Street, Lawrence, KS 66046 | 12/9/2004 | Printed circuit assemblies/paging devices.
Trio Tool Company | 34401 Schoolcraft Road, Livonia, MI 48150 | 12/9/2004 | Automotive maintenance machinery, i.e., testing, gauging and assembly machines.
American Leather Products, LLC | 565 Barry Street, Bronx, NY 10474 | 12/13/2004 | Leather headband, visors and straps for hats and caps.
Persimmon Hill Farm | 367 Persimmon Hill Farm Lane, Lampe, MO 65681 | 12/16/2004 | Muffins and shiitake mushrooms.
Southern Standard Molds, Inc | 18098 Linden Drive, Neosho, MO 64850 | 12/16/2004 | Cement and concrete ornamental product molds.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: December 22, 2004.
Anthony J. Meyer,
Senior Program Analyst, Office of Strategic Initiatives.

[FR Doc. 04-28490 Filed 12-28-04; 8:45 am]

BILLING CODE 3510-24-P